DEPARTMENT OF ENERGY

Federal Energy Regulatory Commission

[Project No. 2471-005—Michigan]

Wisconsin Electric Power Company; Notice of Availability of Environmental Assessment

November 9, 2000.

In accordance with the National Environmental Policy Act of 1969 and the Federal Energy Regulatory Commission's (Commission) regulations, 18 CFR Part 380 (Order No. 486, 52 FR 47897), the Office of Energy Projects has reviewed the application to surrender license for the Sturgeon Plant Project located on the Sturgeon River, a tributary of the Menominee River, in Dickinson County, Michigan, and has prepared an Environmental Assessment (EA) for the project. In the EA, the Commission staff has analyzed the potential environmental effects of the proposed action and has concluded that accepting surrender of the license, with appropriate environmental measures, would not constitute a major Federal action significantly affecting the quality of the human environment.

Copies of the EA are available for review in the Commission's Public Reference Branch, Room 2A, located at 888 First Street, NE, Washington, DC 20426. The EA may also be viewed on the Internet at http://www.ferc.fed.us/online/rims.htm. Please call (202) 208-2222 for assistance.

Any comments should be filed by December 1, 2000, and should be addressed to David P. Boergers, Secretary, Federal Energy Regulatory Commission, 888 First Street, NE, Washington, DC 20426. Please affix Project No. 2471-005 to all comments. Comments and protests may be filed electronically via the internet in lieu of paper. See, 18 CFR 385.2001(a)(1)(iii) and the instructions on the Commission's web site at http://www.ferc.fed.us/efi/doorbell.htm.

For further information, please contact Patti Leppert at (202) 219-2767.

Linwood A. Watson, Jr.,
Acting Secretary.

[FR Doc. 00-29349 Filed 11-15-00; 8:45 am]

BILLING CODE 6717-01-M